DEPARTMENT OF THE INTERIOR

Bureau of Land Management

[NMNM106725808]

Public Land Order No. 7963; National Defense Operating Area Withdrawal, Dona Ana, Luna, and Hidalgo Counties, NM

AGENCY: Bureau of Land Management, Interior.

ACTION: Public land order.

SUMMARY: This Order withdraws, subject to valid existing rights, approximately 109,651 acres of Federal lands from settlement, sale, location, and entry under the general land laws, including the United States mining laws, mineral leasing laws, and geothermal leasing laws, for a period of 3 years for use by the Department of the Army for border security purposes. This withdrawal also transfers administrative jurisdiction of the lands to the Department of the Army.

DATES: This PLO takes effect on April 15, 2025.

FOR FURTHER INFORMATION CONTACT: Jillian Aragon, Project Manager, New Mexico, telephone: 505-635-9701, email: BLM_NM_Border@blm.gov.

Persons who use a telecommunications device for the deaf (TDD) may call the Federal Relay Service (FRS) at 1-800-877-8339 to contact Ms. Aragon. The FRS is available 24 hours a day, 7 days a week, to leave a message or question. You will receive a reply during normal business hours.

SUPPLEMENTARY INFORMATION:

Order

By virtue of the authority vested in the Secretary of the Interior by section 204 of the Federal Land Policy and Management Act of 1976 (FLPMA), 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Army for border security purposes.

All Federal lands, to include Federal interest in lands, other than those that constitute “property” under the Federal Property and Administrative Services Act, as amended, including the 60-foot strip of land lying contiguous to and parallel with the international border between the United States and Mexico, currently subject to Presidential Proclamation No. 758, 35 Stat. 2136 (May 27, 1907) (commonly known as the “Roosevelt Reservation”), located in the counties of Dona Ana, Luna and Hildalgo, state of New Mexico, and situate in the following described locations:

New Mexico Principal Meridian, New Mexico

T. 29 S., R. 4 E.,

Sec. 16, the 60-ft strip reserved by the Presidential Proclamation of May 27, 1907.

Sec. 17, lots 10, 11, and 12 and the 60-ft strip reserved by the Presidential Proclamation of May 27, 1907 in lots 3 and 4.

Sec. 18, the 60-ft strip reserved by the Presidential Proclamation of May 27, 1907.

T. 29 S., R. 3 E.,

Sec. 13, lots 9-12;

Sec. 14, lots 9-12;

Sec. 15, lots 9-12;

Sec. 16, the 60-ft strip reserved by the Presidential Proclamation of May 27, 1907.

Sec. 17, lots 9-12;

Sec. 18, lots 9-12;

T. 29 S., R. 2 E.,

The 60-ft strip reserved by the Presidential Proclamation of May 27, 1907.

T. 29 S., R. 1 E.,

That portion lying southerly of the southerly right-of-way boundary of NM State Highway 9;

Including the 60-ft strip reserved in conformity with the Presidential Proclamation of May 27, 1907.

T. 29 S., R. 1 W.,

That portion lying southerly of the southerly right-of-way boundary of NM State Highway 9;

Including the 60-ft strip reserved in conformity with the Presidential Proclamation of May 27, 1907.

T. 29 S., R. 2 W.,

That portion lying southerly of the southerly right-of-way boundary of NM State Highway 9;

Including the 60-ft strip reserved in conformity with the Presidential Proclamation of May 27, 1907.

T. 29 S., R. 3 W.,

That portion lying southerly of the southerly right-of-way boundary of NM State Highway 9;

Including the 60-ft strip reserved in conformity with the Presidential Proclamation of May 27, 1907.

T. 28 S., R. 4 W.,

That portion lying southerly of the southerly right-of-way boundary of NM State Highway 9;

T. 29 S., R. 4 W.,

Including the 60-ft strip reserved in conformity with the Presidential Proclamation of May 27, 1907.

Excepting that portion lying northerly of the southerly right-of-way boundary of NM State Highway 9;

T. 28 S., R. 5 W.,

That portion lying southerly of the southerly right-of-way boundary of NM State Highway 9;

T. 29 S., R. 5 W.,

Including the 60-ft strip reserved in conformity with the Presidential Proclamation of May 27, 1907.

Excepting that portion lying northerly of the southerly right-of-way boundary of NM State Highway 9;

T. 29 S., R. 6 W.,

That portion lying southerly of the southerly right-of-way boundary of NM State Highway 9;

Including the 60-ft strip reserved in conformity with the Presidential Proclamation of May 27, 1907.

T. 28 S., R. 7 W.,

That portion lying southerly of the southerly right-of-way boundary of NM State Highway 9;

T. 29 S., R. 7 W.,

That portion lying southerly of the southerly right-of-way boundary of NM State Highway 9;

Including the 60-ft strip reserved in conformity with the Presidential Proclamation of May 27, 1907.

T. 28 S., R. 8 W.,

That portion lying southerly of the southerly right-of-way boundary of NM State Highway 9;

T. 29 S., R. 8 W.,

Including the 60-ft strip reserved in conformity with the Presidential Proclamation of May 27, 1907.

Excepting that portion lying northerly of the southerly right-of-way boundary of NM State Highway 9;

T. 29 S., R. 9 W.,

That portion lying southerly of the southerly right-of-way boundary of NM State Highway 9;

Including the 60-ft strip reserved in conformity with the Presidential Proclamation of May 27, 1907.

T. 28 S., R. 10 W.

Excepting that portion lying northerly of the southerly right-of-way boundary of NM State Highway 9;

T. 29 S., R. 10 W.,

Including the 60-ft strip reserved in conformity with the Presidential Proclamation of May 27, 1907.

Excepting that portion lying northerly of the southerly right-of-way boundary of NM State Highway 9;

T. 28 S., R. 11 W.,

That portion lying southerly of the southerly right-of-way boundary of NM State Highway 9;

T. 29 S., R. 11 W.,

Including the 60-ft strip reserved in conformity with the Presidential Proclamation of May 27, 1907.

Excepting that portion lying northerly of the southerly right-of-way boundary of NM State Highway 9;

T. 29 S., R. 12 W.,

Including the 60-ft strip reserved in conformity with the Presidential Proclamation of May 27, 1907.

Excepting that portion lying northerly of the southerly right-of-way boundary of NM State Highway 9;

T. 29 S., R. 13 W.,

Including the 60-ft strip reserved in conformity with the Presidential Proclamation of May 27, 1907.

T. 29 S., R. 14 W.,

Secs. 1,2,3, 10 thru 15, 22 thru 27, 34,35 and 36;

T. 30 S., R. 14 W.,

Secs. 1,2,3,10 thru 15, 22 thru 27, 34, 35 and 36;

Including the 60-ft strip reserved in conformity with the Presidential Proclamation of May 27, 1907.

T. 31 S., R. 14 W.,

Secs. 1,2,3,10 thru 14;

Secs. 1, 22 and 23 excepting the area lying westerly of the westerly edge of Commodore Road;

Secs. 24 and 25;

Sec. 2, 26 and 35 excepting the area lying westerly of the westerly edge of Commodore Road;

Sec. 36;

Including the 60-ft strip reserved in conformity with the Presidential Proclamation of May 27, 1907.

T. 32 S., R. 14 W.,

Sec. 1;

Sec. 11, excepting the area lying westerly of the westerly edge of Commodore Road;

Secs. 12 and 13;

Sec. 14, excepting the area lying westerly of the westerly edge of Commodore Road;

Sec. 23, excepting the area lying westerly of the westerly edge of Commodore Road;

Secs. 24 thru 27, 34, 35, and 36;

Including the 60-ft strip reserved in conformity with the Presidential Proclamation of May 27, 1907.

T. 33 S., R. 14 W.,

Secs. 1 thru 3, 10 thru 15, 22 thru 27, and 34 thru 36;

Including the 60-ft strip reserved in conformity with the Presidential Proclamation of May 27, 1907.

T. 34 S., R. 14 W.,

Including the 60-ft strip reserved in conformity with the Presidential Proclamation of May 27, 1907.

T. 34 S., R. 15 W.,

Secs. 1 and 2;

Sec. 3, NW1/4 and S1/2;

Sec. 4 thru 24;

Including the 60-ft strip reserved in conformity with the Presidential Proclamation of May 27, 1907.

T. 34 S., R. 16 thru 20 W.,

Including the 60-ft strip reserved in conformity with the Presidential Proclamation of May 27, 1907.

T. 34 S., R. 21 W.,

Sec. 16;

The 60-ft strip reserved in conformity with the Presidential Proclamation of May 27, 1907.

T. 34 S., R. 22 W.,

The 60-ft strip reserved in conformity with the Presidential Proclamation of May 27, 1907.

The areas described above aggregate approximately 109,651 acres of Federal lands in Dona Ana, Luna, and Hidalgo Counties.

2. This withdrawal will expire 3 years from the effective date of this Order, unless it is extended in accordance with subsections (c)(1) or (d), whichever is applicable, and (b)(1) of section 204 of the Federal Land Policy and Managment Act of 1976, 43 U.S.C. 1714.

Doug Burgum,
Secretary of the Interior.

[FR Doc. 2025-06827 Filed 4-18-25; 8:45 am]

BILLING CODE 3720-58-P